FEDERAL COMMUNICATIONS COMMISSION

Public Information Collection(s) Requirement Submitted to OMB for Emergency Review and Approval

March 13, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 20, 2000. If you anticipate that you will be submitting comments, but find it difficult to do so within the period of time allowed by this notice, you should advise the contacts listed below as soon as possible.

ADDRESSES: Direct all comments to Edward C. Springer, Office of Management and Budget, Room 10236 NEOB, Washington, DC 20503, (202) 395-3562 or via internet at edward.springer@omb.eop.gov, and Judy Boley, Federal Communications Commission, Room 1-C804, 445 12th Street, SW, Washington, DC 20554 or via internet to jboley@fcc.gov.

FOR FURTHER INFORMATION CONTACT: For additional information or copies of the information collections contact Judy Boley at 202-418-0214 or via internet at jboley@fcc.gov.

SUPPLEMENTARY INFORMATION: The Commission has requested emergency OMB review of this collection with an approval by March 17, 2000.

OMB Control Number: 3060-XXXX.

Type of Review: New Collection.

Title: Survey to Provide Information on Historical Participants in Broadcast and Wireless Licensing by the FCC and Secondary Market, 1950 to the Present.

Form No.: N/A.

Respondents: Individuals or households; business or other for-profit.

Number of Respondents: 150.

Estimated Time Per Response: 1.5 hours.

Frequency of Response: One time reporting requirement.

Total Annual Burden: 225 hours.

Total Annual Cost: N/A.

Needs and Uses: The Commission requests emergency OMB review and approval by March 17, 2000, for a survey that will be used to provide the basis for the FCC's investigation that seeks to provide a historical perspective on what market barriers, if any, are faced by small, women- and minority-owned businesses in the acquisition, sale, or transfer of FCC broadcast and wireless licenses.

Federal Communications Commission.
Magalie Roman Salas,
Secretary.

[FR Doc. 00-6878 Filed 3-20-00; 8:45 am]

BILLING CODE 6712-01-P